DEPARTMENT OF ENERGY

Federal Energy Regulatory Commission

[Docket No. CP18-13-000]

Notice of Schedule for Environmental Review of the Columbia Gas Transmission, Llc Line 8000 Replacement Project

On November 3, 2017, Columbia Gas Transmission, LLC filed an application in Docket No. CP18-13-000 requesting a Certificate of Public Convenience and Necessity pursuant to Sections 7(b) and (c) of the Natural Gas Act to construct, operate, and abandon certain natural gas pipeline facilities in Mineral County, West Virginia and Allegany County, Maryland. The proposed project is known as the Line 8000 Replacement Project (Project) and is part of Columbia's multi-year, comprehensive modernization program. The Project would not increase capacity and would continue to serve the Maryland distribution markets. According to Columbia, its Project would increase system reliability, thereby greatly reducing the risk of interruptions to Columbia's customers.

On November 17, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—August 29, 2018

90-day Federal Authorization Decision Deadline—November 27, 2018

If a schedule change becomes necessary, additional notice will be provided so that the relevant agencies are kept informed of the Project's progress.

Project Description

The Line 8000 Replacement Project would consist of:

• Replacement of about 13.25 miles of existing 12-inch-diameter bare steel pipeline, with approximately 13.54 miles of new, coated 12-inch-diameter natural gas transmission pipeline in five sections and four modification points along Line 8000 and Lateral Line 8006;

• replacement of about 0.54 miles of existing 4-inch-diameter bare steel pipeline, with approximately 0.67 miles of new coated 4-inch-diameter natural gas transmission pipeline along Lateral Lines 8225 and 8244;

• installation of two new pig ¹ launcher and receiver sites and four new mainline valves associated with pipeline facilities;

¹ A “pig” is a tool that the pipeline company inserts into and pushes through the pipeline for cleaning the pipeline, conducting internal inspections, or other purposes.

• modifications/abandonment of three existing mainline valves and three existing side tap valve sites;

• modification of tie-ins at two regulator stations; and

• abandonment of 13 active residential taps and 109 inactive taps.

Background

On December 19, 2017, the Commission issued a Notice of Intent to Prepare an Environmental Assessment for the Proposed Line 8000 Replacement Project and Request for Comments on Environmental Issues (NOI). The NOI was sent to affected landowners; federal, state, and local government agencies; elected officials; environmental and public interest groups; Native American tribes; other interested parties; and local libraries and newspapers. In response to the NOI, the Commission received comments from Columbia Gas of Maryland, Inc., Direct Energy Business Marketing, LLC, the West Virginia Division of Culture and History, the Maryland Department of Environment, and one landowner. The comments addressed the conversion to an alternate energy source for customers who would be affected by the abandonment of residential farm taps, the cost of the Project, cultural resources, air quality, stormwater and erosion, water resources, and land use. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-13), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 20, 2018.
Nathaniel J. Davis, Sr.,
Deputy Secretary.

[FR Doc. 2018-16080 Filed 7-26-18; 8:45 am]

BILLING CODE 6717-01-P